DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 13, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Generic Clearance to Conduct Formative Research or Development of Nutrition Education and Promotion Materials and Related Tools and Grants for FNS Population Groups.

OMB Control Number: 0584-0524.

Summary of Collection: This information collection is based on Section 19 of the Child Nutrition Act of 1966 (42 U.S.C. 1787), Section 5 of the Richard B. Russell National School Lunch Act (42 U.S.C. 1754) and Section 11(f) of the Food and Nutrition Act of 2008 (7 U.S.C. 2020). This request for approval of information collection is necessary to obtain input into the development of nutrition education interventions for population groups served by the U.S. Department of Agriculture, Food and Nutrition Service (USDA-FNS). FNS also uses this collection to obtain input that can be used to develop and assess grants. Interventions need to be designed so that they can be delivered through different types of media and in a variety of formats for diverse audiences.

Need and Use of the Information: Obtaining formative input and feedback is fundamental to FNS' success in delivering science-based nutrition messages and reaching diverse segments of the population in ways that are meaningful and relevant. This includes conferring with the target audience, individuals who serve the target audience, and key stakeholders on the communication strategies and interventions that will be developed and on the delivery approaches that will be used to reach consumers. The formative research and testing activities described will help in the development of effective education and promotion tools and communication strategies. Collection of this information will increase FNS' ability to formulate nutrition education interventions that resonate with the intended target population, particularly low-income families.

FNS also uses formative input and feedback to determine how best to develop and assess grants so that grant recipients can successfully meet their goals under these grants. To do this, FNS confers with grant recipients to obtain input regarding their experiences, expectations, challenges, and lessons learned while implementing the grant.

Description of Respondents: Individuals and Households, Businesses and Organizations, State, Local and/or Tribal Government.

Number of Respondents: 120,710.

Frequency of Responses: Reporting: Annually.

Total Burden Hours: 46,823.

Food and Nutrition Service

Title: Seniors Farmers' Market Nutrition Program (SFMNP).

OMB Control Number: 0584-0541.

Summary of Collection: This submission is a revision of a currently approved collection which covers the reporting and recordkeeping burden associated with the Seniors Farmers' Market Nutrition Program, OMB #0584-0541. The Farm Security and Rural Investment Act of 2002 (the 2002 Farm Bill), Public Law 107-171, authorized the SFMNP as a competitive grant program beginning Fiscal Year (FY) 2003 and gave USDA the authority to develop Federal regulations guiding the administration of the SFMNP. The Agriculture Improvement Act of 2018, Public Law 115-334 (the 2018 Farm Bill), provided continued funding for the SFMNP through FY 2023. Federal regulations governing the SFMNP (7 Code of Federal Regulations, part 249) require that certain program-related information be collected and that full and complete records concerning SFMNP operations are maintained. The information reporting and recordkeeping burdens are necessary to ensure appropriate and efficient management of the SFMNP.

Need and Use of the Information: The information collected is used by USDA to manage, plan, evaluate, make decisions, and report on SFMNP program operations. FNS uses the information collection to assess how each SFMNP State agency operates; to ensure regulatory compliance of State agencies, local agencies, and farmers/farmers' markets/roadside stands/CSA programs; to make program management decisions; and to report to Congress as needed.

Description of Respondents: State, Local, or Tribal Governments; Individuals and Households; Nonprofit Businesses and authorized outlets.

Number of Respondents: 746,264.

Frequency of Responses: Reporting: Annually.

Total Burden Hours: 1,137,363.

Ruth Brown,
Departmental Information Collection Clearance Officer.

[FR Doc. 2022-27088 Filed 12-13-22; 8:45 am]

BILLING CODE 3410-30-P